DEPARTMENT OF COMMERCE

National Oceanic and Atmospheric Administration

[I.D. 073004A]

Endangered Species; File No. 1462

AGENCY: National Marine Fisheries Service (NMFS), National Oceanic and Atmospheric Administration (NOAA), Commerce.

ACTION: Issuance of permit.

SUMMARY: Notice is hereby given that Inwater Research Group, Inc., 4160 NE Hyline Dr., Jensen Beach, FL, has been issued a permit to take loggerhead (Caretta caretta), green (Chelonia mydas), hawksbill (Eretmochelys imbricata), and Kemp's ridley (Lepidochelys kempii) sea turtles for purposes of scientific research.

ADDRESSES: The permit and related documents are available for review upon written request or by appointment in the following offices:

Permits, Conservation and Education Division, Office of Protected Resources, NMFS, 1315 East-West Highway, Room 13705, Silver Spring, MD 20910; phone (301)713-2289; fax (301)713-0376; and

Southeast Region, NMFS, 9721 Executive Center Drive North, St. Petersburg, FL 33702-2432; phone (727)570-5301; fax (727)570-5320.

FOR FURTHER INFORMATION CONTACT: Patrick Opay or Ruth Johnson, (301)713-2289.

SUPPLEMENTARY INFORMATION: On May 18, 2004, notice was published in the Federal Register (69 FR 28122) that a request for a scientific research permit to take loggerhead, green, hawksbill and Kemp's ridley sea turtles had been submitted by the above-named organization. The requested permit has been issued under the authority of the Endangered Species Act of 1973, as amended (ESA; 16 U.S.C. 1531 et seq.) and the regulations governing the taking, importing, and exporting of endangered and threatened species (50 CFR parts 222-226).

Researchers will capture sea turtles using a large mesh tangle net. Animals will be measured, flipper and passive integrated transponder (PIT) tagged, weighed, blood sampled, photographed and released. Dietary samples will also be extracted from a subset of green sea turtles using a sampling technique called gastric lavage. This research will provide size frequency, disease rate, relative abundance and feeding ecology data on marine turtles utilizing the Lake Worth and the Indian River Lagoon Systems of Florida. Information collected from this study will benefit state and federal managers in the conservation of these marine turtle species. None of the activities are expected to result in mortality. The permit is valid for five years.

Issuance of this permit, as required by the ESA, was based on a finding that such permit: (1) was applied for in good faith, (2) will not operate to the disadvantage of the endangered and threatened species which are the subject of this permit, and (3) is consistent with the purposes and policies set forth in section 2 of the ESA.

Dated: September 8, 2004.
Stephen L. Leathery,
Chief, Permits, Conservation and Education Division, Office of Protected Resources, National Marine Fisheries Service.

[FR Doc. 04-20698 Filed 9-13-04; 8:45 am]

BILLING CODE 3510-22-S